DEPARTMENT OF THE INTERIOR

Fish and Wildlife Service

[FWS-R2-ES-2019-N041; FXES11130200000-190-FF02ENEH00]

Endangered Species and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act of 1973, as amended. We invite the public and local, State, Tribal, and Federal agencies to comment on these applications. Before issuing any of the requested permits, we will take into consideration any information that we receive during the public comment period.

DATES: We must receive your written comments by May 31, 2019.

ADDRESSES: Document availability and comment submission: Submit requests for copies of the applications and related documents and submit any comments by one of the following methods. All requests and comments should specify the applicant name(s) and application number(s) (e.g., TEXXXXXX):

• Email: susan_jacobsen@fws.gov.

• U.S. Mail: Susan Jacobsen, Chief, Classification and Recovery Division, U.S. Fish and Wildlife Service, P.O. Box 1306, Albuquerque, NM 87103.

FOR FURTHER INFORMATION CONTACT: Vanessa Burge, Recovery Permits Coordinator, Ecological Services, 505-248-6641 (phone); fw2_te_permits@fws.gov (email). Individuals who are hearing or speech impaired may call the Federal Relay Service at 1-800-877-8339 for TTY assistance.

SUPPLEMENTARY INFORMATION:

Background

The ESA prohibits certain activities with endangered and threatened species unless authorized by a Federal permit. The ESA and our implementing regulations in part 17 of title 50 of the Code of Federal Regulations (CFR) provide for the issuance of such permits and require that we invite public comment before issuing permits for activities involving endangered species.

A recovery permit issued by us under section 10(a)(1)(A) of the ESA authorizes the permittee to conduct activities with endangered species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, State, and Federal agencies, Tribes, and the public to comment on the following applications.

Application No. | Applicant | Species | Location | Activity | Type of take | Permit action
TE-15101D | O'Shea, Lauren E.; Norman, Oklahoma | American burying beetle (Nicrophorus americanus) | Arkansas, Kansas, Oklahoma, Texas | Presence/absence surveys, habitat surveys | Capture, injury, death | New.
TE-13585D | Donato, Erin V.; Houston, Texas | Houston toad (Anaxyrus houstonensis) | Texas | Presence/absence surveys | Harm, harass, injury, death | New.
TE-13007D | Allen, Joshua M.; Easton, Kansas | Indiana bat (Myotis sodalis), gray bat (Myotis grisescens), northern long-eared bat (Myotis septentrionalis) | Oklahoma | Presence/absence surveys, mist-netting | Capture, injury, death | New.
TE-800611 | SWCA; Austin, Texas | Whooping crane (Grus americana), multiple karst invertebrate species, red-cockaded woodpecker (Leuconotopicus borealis), American burying beetle (Nicrophorus americanus), Louisianan pine snake (Pituophis ruthveni), Texas hornshell (Popenaias popeii), golden-cheeked warbler (Setophaga chrysoparia), interior least tern (Sterna antillarum athalassos), Houston toad (Bufo houstonensis) | Arkansas, Kansas, Louisiana, Massachusetts, Michigan, Missouri, Nebraska, New Mexico, Ohio, Oklahoma, Rohde Island, South Dakota, Texas | Presence/absence surveys, monitoring studies, habitat assessments and evaluations | Capture, collect, harass, injury, death | Renewal.
TE-813088 | Bureau of Reclamation; Albuquerque, New Mexico | Arkansas River shiner (Notropis girardi), Comanche Springs pupfish (Cyprinodon elegans), Pecos gambusia (Gambusia nobilis), Rio Grande silvery minnow (Hybognathus amarus) | New Mexico, Texas | Biological monitoring, research, transport, salvage | Capture, collect, harass, harm, injury, death | Renewal.
TE-03800D | Borderlands Restoration Network; Patagonia, Arizona | Canelo Hills ladies-tresses (Spiranthes delitescens) | Arizona | Survey, seed and root collection, restoration | N/A | New.
TE-03789D | Gargaro, Madison; San Antonio, Texas | Golden-cheeked warbler (Setophaga chrysoparia) | Texas | Presence/absence surveys, habitat assessments | Harass, harm | New.
TE-069320 | Groundwater & Environmental Services Inc.; Lewisville, Texas | Piping plover (Charadrius melodus), fountain darter (Etheostoma fonticola), American Burying Beetle (Nicrophorus americanus), red-cockaded woodpecker (Picoides borealis), least tern (Sterna antillarum) | Arizona, Kansas, Louisiana, Oklahoma, South Dakota, Texas | Presence/absence surveys | Capture, harass, injury, death | Renewal.
TE-053109 | Stefferud, Sally E.; Phoenix, Arizona | Gila topminnow (Poeciliopsis occidentalis), desert pupfish (Cyprinodon macularius) | Arizona | Surveys, capture, mark and collect voucher specimens | Capture, collect, injury, death | Renewal.
TE-092622 | Valdes, Gabriels A.; Gilbert, AZ | Coastal California gnatcatcher (Polioptila californica californica), least Bell's vireo (Vireo bellii pusillus), southwestern willow flycatcher (Empidonax traillii extimus) | Arizona, California, New Mexico, Texas | Presence surveys, nest monitoring and surveys | Harass, harm | Renewal.
TE-11469D | Pride, Lora; Virginia Beach, Virginia | American burying beetle (Nicrophorus americanus) | Oklahoma | Presence/absence surveys | Capture, harm, injury, death | New.
TE-08563D | Kuhl, John J.; Austin, Texas | Attwater's greater prairie-chicken (Tympanuchus cupido attwateri), golden-cheeked warbler (Setophaga chrysoparia), least tern (Sterna antillarum), northern Aplomado falcon (Falco femoralis septentrionalis), piping plover (Charadrius melodus), red-cockaded woodpecker (Picoides borealis), southwestern willow flycatcher (Empidonax traillii extimus), Houston toad (Anaxyrus houstonensis), bald eagle (Haliaeetus leucocephalus), black-capped vireo (Vireo atricapilla) | Arizona, Louisiana, New Mexico, Oklahoma, Texas | Presence/absence surveys, habitat and nesting search and mapping, counts, handling | Capture, harm, harass, injury | New.
TE-20166A | Bey, Trinity G.; Boerne, Texas | Golden-cheeked warbler (Setophaga chrysoparia) | Texas | Presence/absence surveys, habitat assessments | Harm, harass | Renewal.
TE-000101D | Hayes, Hannah L.; Ponca City, Oklahoma | Indiana bat (Myotis sodalis), gray bat (Myotis grisescens), northern long-eared bat (Myotis septentrionalis), Ozark big-eared bat (Corynorhinus (=plecotus) townsendii ingens),Virginia big-eared bat (Corynorhinus (=plecotus) townsendii virginianus) | Alabama, Arkansas, Connecticut, Delaware, Florida, Georgia, Illinois, Indiana, Iowa, Kentucky, Louisiana, Maine, Massachusetts, Maryland, Michigan Minnesota, Mississippi, Missouri, New Hampshire, New Jersey, New York, North Carolina, Ohio, Pennsylvania, Rode Island, South Carolina, Tennessee, Virginia, Vermont, West Virginia | Presence/absence surveys | Capture, injury, death | New.
TE-07467D | Schmalzel, Robert J.; Tucson, Arizona | Pima pineapple cactus (Coryphantha scheeri var. robustispina) | Arizona | Research | N/A | New.
TE-25819D | Shashy, Peter; San Antonio, Texas | Golden-cheeked warbler (Setophaga chrysoparia) | Texas | Presence/absence surveys | Harass, harm | New.
TE-25818D | Aragon, Felicia; Peralta, New Mexico | Southwestern willow flycatcher (Empidonax traillii extimus) | Arizona, California, Colorado, Nevada, New Mexico, Texas, Utah | Presence/absence surveys | Harass, harm | New.
TE-25816D | Jacobs Engineering Group; Phoenix, Arizona | Southwestern willow flycatcher (Empidonax traillii extimus), Yuma clapper rail (Rallus longirostris yumanensis), black-footed ferret (Mustela nigripes) | Arizona, California, Nevada, New Mexico, Utah | Presence/absence surveys, nest searches and monitoring | Harass, harm | New.
TE-25792D | Nelson, Pamela; Chelsea, Oklahoma | Ozark big-eared bat (Corynorhinus (=plecotus) townsendii ingens), gray bat (Myotis grisescens), American burying beetle (Nicrophorus americanus) | Arizona, Arkansas, Kansas, Missouri, Nevada, Oklahoma, South Dakota, Texas | Presence/absence surveys, mist nets, harp traps, | Capture, harass, harm, injury, death | New.
TE-25790D | Stark, Kailin; Phoenix, Arizona | Southwestern willow flycatcher (Empidonax traillii extimus) | Arizona | Presence/absence surveys | Harass, harm | New.
TE-25781D | Atkins North America, Inc; Austin, Texas | Least tern (Sterna antillarum), piping plover (Charadrius melodus), golden-cheeked warbler (Dendroica chrysoparia) | Texas | Presence/absence surveys | Harass, harm | New.
TE-798920 | City of Austin, Balcones Canyonlands Preserve; Austin, Texas | Golden-cheeked warbler (Dendroica chrysoparia), ground beetles (no common name; Rhadine exilis and Rhadine infernalis), Helotes mold beetle (Batrisodes venyivi), Cokendolpher Cave harvestman (Texella cokendolpheri), Robber Baron Cave meshweaver (Cicurina baronia), Madla Cave meshweaver (Cicurina madla), Bracken Bat Cave meshweaver (Cicurina venii), Government Canyon Bat Cave meshweaver (Cicurina vespera), Government Canyon Bat Cave spider (Neoleptoneta microps), Tooth Cave spider (Neoleptoneta myopica), Tooth Cave pseudoscorpion (Tartarocreagris texana), Bee Creek Cave harvestman (Texella reddelli), Kretschman-Cave mold beetle (Texamaurops reddelli), Tooth Cave ground beetle (Rhadine persephone), Bone Cave harvestman (Texella reyesi), Coffin Cave mold beetle (Batrisodes texanus) | Texas | Presence/absence surveys, mist netting, nest monitoring, collection, salvage | Capture, harass, harm, injury, death | Renewal.
TE-19661B | Tetra Tech Inc; Albuquerque, New Mexico | Southwestern willow flycatcher (Empidonax traillii extimus) | Arizona, New Mexico | Presence/absence surveys | Harass, harm | Renewal.
TE-053083 | Kutz, Julie; Albuquerque, New Mexico | Southwestern willow flycatcher (Empidonax traillii extimus) | New Mexico | Presence/absence surveys | Harass, harm | Renewal.
TE-039466 | USGS Idaho Cooperative Fish and Wildlife Unit; Moscow, Idaho | Yuma clapper rail (Rallus longirostris yumanensis) | Arizona | Research, capture and handling | Harm, harass, injury, death | Amendment.
TE-63651A | POWER Engineers Inc; Austin, Texas | Golden-cheeked warbler (Dendroica chrysoparia) | Texas | Presence/absence surveys and habitat surveys | Harass, harm | Renewal.
TE-106551 | Fischer, Clay V.; Austin, Texas | Ocelot (Leopardus (=felis) pardalis), Gulf Coast jaguarundi (Herpailurus (=felis) yagouaroundi cacomitli), golden-cheeked warbler (Dendroica chrysoparia), piping plover (Charadrius melodus), southwestern willow flycatcher (Empidonax traillii extimus), Houston toad (Bufo houstonensis) | Texas | Presence/absence surveys and habitat asessments | Harass, harm | Renewal.
TE-01837D | McMahan, Michael; San Antonio, Texas | Golden-cheeked warbler (Dendroica chrysoparia) | Texas | Presence/absence surveys | Harass, harm | New.
TE-44547B | Dixon, Thomas (Freese and Nichols, Inc); Austin, Texas | Least tern (Sterna antillarum), piping plover (Charadrius melodus), northern Aplomado falcon (Falco femoralis septentrionalis), Texas hornshell (Popenaias popeii), red-cockaded woodpecker (Picoides borealis) | Texas | Presence/absence surveys, relocations | Harass, harm, injury, death | Amendment.
TE-232639 | DESCO Environmental Consultants; Magnolia, Texas | Red-cockaded woodpecker (Picoides borealis), American burying beetle (Nicrophorus americanus) | Oklahoma, Texas | Presence absence surveys | Harass, harm, injury, death | Renewal.
TE-841353 | Blair Wildlife Consulting; Kyle, Texas | Ground beetles (no common name; Rhadine exilis and Rhadine infernalis), Helotes mold beetle (Batrisodes venyivi), Cokendolpher Cave harvestman (Texella cokendolpheri), Robber Baron Cave meshweaver (Cicurina baronia), Madla Cave meshweaver (Cicurina madla), Bracken Bat Cave meshweaver (Cicurina venii), Government Canyon Bat Cave meshweaver (Cicurina vespera), Government Canyon Bat Cave spider (Neoleptoneta microps), Tooth Cave spider (Neoleptoneta myopica), Tooth Cave pseudoscorpion (Tartarocreagris texana), Bee Creek Cave harvestman (Texella reddelli), Kretschman-Cave mold beetle (Texamaurops reddelli), Tooth Cave ground beetle (Rhadine persephone), Bone Cave harvestman (Texella reyesi), Coffin Cave mold beetle (Batrisodes texanus) | Texas | Presence absence surveys | Harass, harm | Amendment.
TE-226653 | The Arboretum at Flagstaff; Flagstaff, Arizona | Todsen's pennyroyal (Hedeoma todsenii), Holy Ghost ipomopsis (Ipomopsis sancti-spiritus), Brady pincushion cactus (Pediocactus bradyi), Peebles Navajo cactus (Pediocactus peeblesianus var. peeblesianus), Arizona cliffrose (Purshia (=cowania) subintegra), Wright fishhook cactus (Sclerocactus wrightiae), Autumn buttercup (Ranunculus aestivalis (=acriformis)) | Arizona, New Mexico, Utah | Surveys, monitoring, collection |  | Renewal.
TE-26393D | Gilliam, Erick; Poteau, Oklahoma | American Burying Beetle (Nicrophorus americanus) | Arkansas, Kansas, Oklahoma, Texas | Presence/absence surveys, habitat surveys | Capture, injury, death | New.
TE-26391D | La Tierra Environmnetal Consulting; Las Cruces, New Mexico | Southwestern willow flycatcher (Empidonax traillii extimus), northern Aplomado falcon (Falco femoralis septentrionalis) | New Mexico | Presence/absence surveys, monitoring | Harass, harm | New.
TE-26389D | Patterson, Rande R.; Houston, Texas | Rusty patched bumble bee (Bombus affinis) | Illinois, Indiana, Iowa, Maine, Massachusetts, Minnesota, Ohio, Virginia, Wisconsin | Presence/absence surveys, monitoring | Harass, harm | New.
TE-02164C | Bonar, Scott A.; Tucson, Arizona | Razorback sucker (Xyrauchen texanus) | Arizona | Presence/absence surveys, monitoring | Capture, injury, death | Amend.
TE-33632D | Graham, Sean P.; Alpine, Texas | Big bend gambusia (Gambusia gaigei) | Texas | Monitoring | Capture, injury, death | New.
TE-33639D | ECHO, LLC.; Tahlequah, Oklahoma | American burying beetle (Nicrophorus americanus), Indiana bat (Myotis sodalis), gray bat (Myotis grisescens), northern long-eared bat (Myotis septentrionalis) | Oklahoma, Arkansas | Presence/absence surveys | Capture, injury, death | New.
TE-33641D | Mahoney, Sean; Flagstaff, Arizona | Southwestern willow flycatcher (Empidonax traillii extimus) | Arizona, California, New Mexico, Utah | Presence/absence surveys | Harass, harm | New.
TE-00284A | Rainwater, Stephanie; Tulsa, Oklahoma | American burying beetle (Nicrophorus americanus) | Arkansas, Kansas, Missouri, Nebraska, Ohio, Oklahoma, South Dakota, Texas | Presence/absence surveys | Capture, injury, death | Renewal.
TE-053839 | SME Environmental; Durango, Colorado | Southwestern willow flycatcher (Empidonax traillii extimus) | New Mexico | Presence/absence surveys | Harass, harm | Renewal.
TE-066226 | Moors, Amanda; Globe, Arizona | Lesser long-nosed bat (Leptonycteris curasoae yerbabuenae), Mexican long-nosed bat (Leptonycteris nivalis), Sonoran pronghorn (Antilocapra americana sonoriensis), Yuma clapper rail (Rallus longirostris yumanensis), southwestern willow flycatcher (Empidonax traillii extimus), Mount Graham red squirrel (Tamiasciurus hudsonicus grahamensis) | Arizona, New Mexico, Texas | Presence/absence surveys, capture, collect, release, tag, midden searches | Capture, harass, harm, injury, death | Renewal.
TE-841353 | Blair Wildlife Consulting LLC; Kyle, Texas | Ground beetles (no common name; Rhadine exilis and Rhadine infernalis), Helotes mold beetle (Batrisodes venyivi), Cokendolpher Cave harvestman (Texella cokendolpheri), Robber Baron Cave meshweaver (Cicurina baronia), Madla Cave meshweaver (Cicurina madla), Bracken Bat Cave meshweaver (Cicurina venii), Government Canyon Bat Cave meshweaver (Cicurina vespera), Government Canyon Bat Cave spider (Neoleptoneta microps), Tooth Cave spider (Neoleptoneta myopica), Tooth Cave pseudoscorpion (Tartarocreagris texana), Bee Creek Cave harvestman (Texella reddelli), Kretschman-Cave mold beetle (Texamaurops reddelli), Tooth Cave ground beetle (Rhadine persephone), Bone Cave harvestman (Texella reyesi), Coffin Cave mold beetle (Batrisodes texanus) | Texas | Presence absence surveys | Harass, harm | Amendment.
TE-26445D | Terra Tech Environmental Services; Evergreen, Colorado | New Mexico meadow jumping mouse (Zapus hudsonius luteus), least tern (Sterna antillarum), southwestern willow flycatcher (Empidonax traillii extimus), Jemez Mountains salamander (Plethodon neomexicanus), Rio Grande silvery minnow (Hybognathus amarus), Zuni Bluehead Sucker (Catostomus discobolus yarrowi) | New Mexico | Presence/absence surveys, habitat surveys | Harass, harm | New.

Public Availability of Comments

Written comments we receive become part of the administrative record associated with this Federal Register notice. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Dated: March 19, 2019.
Amy Lueders,
Regional Director, Southwest Region.

[FR Doc. 2019-08889 Filed 4-30-19; 8:45 am]

BILLING CODE 4333-15-P